DEPARTMENT OF COMMERCE

Economics and Statistics Administration

Commerce Data Advisory Council Meeting

AGENCY: Economic and Statistics Administration, Department of Commerce.

ACTION: Notice of public meeting.

SUMMARY: The Economic and Statistics Administration (ESA) is giving notice of a meeting of Commerce Data Advisory Council (CDAC). The CDAC will address areas such as data management practices; common, open data standards; policy issues related to privacy, latency, and consistency; effective models for public-private partnership; external uses of Commerce data; and, methods to build new feedback loops between the Department and data users. The CDAC will meet in a plenary session on April 23-24, 2015. Last-minute changes to the schedule are possible, which could prevent giving advance public notice of schedule adjustments.

DATES: April 23-24, 2015. On April 23, the meeting will begin at approximately 12:00 p.m. and end at approximately 5:00 p.m. On April 24, the meeting will begin at approximately 9:00 a.m. and end at approximately 1:00 p.m.

ADDRESSES: The meeting will be held at Google Washington, DC, 25 Massachusetts Avenue NW., Suite 900, Washington, DC 20001.

FOR FURTHER INFORMATION CONTACT: Burton Reist, BReist@doc.gov Director of External Communication and DFO, CDAC, Department of Commerce, Economics and Statistics Administration, 1401 Constitution Ave. NW., Washington, DC 20230, telephone (202) 482-3331.

SUPPLEMENTARY INFORMATION: The CDAC comprises as many as 20 members. The Committee provides an organized and continuing channel of communication between recognized experts in the data industry (collection, compilation, analysis, dissemination and privacy protection) and the Department of Commerce. The CDAC provides advice and recommendations, to include process and infrastructure improvements, to the Secretary, DOC and the DOC data-bureau leadership on ways to make Commerce data easier to find, access, use, combine and disseminate. The aim of this advice shall be to maximize the value of Commerce data to all users including governments, businesses, communities, academia, and individuals.

The Committee meeting is in accordance with the Federal Advisory Committee Act (Title 5, United States Code, Appendix 2, Section 10(a)(b)).

All meetings are open to the public. A brief period will be set aside at the meeting for public comment on April 24, 2015. However, individuals with extensive questions or statements must submit them in writing to: DataAdvisoryCouncil@doc.gov (subject line “APRIL 2015 CDAC Meeting Public Comment”), or by letter submission to the Director of External Communication and DFO, CDAC, Department of Commerce, Economics and Statistics Administration, 1401 Constitution Ave. NW., Washington, DC 20230. Such submissions will be included in the record for the meeting if received by Friday, April 17, 2015.

The meeting is physically accessible to persons with disabilities. Requests for sign language interpretation or other auxiliary aids should be directed to the Director of External Communication as soon as possible, preferably two weeks prior to the meeting. If you plan to attend the meeting, please register by Monday, April 20, 2015. You may access the online registration from the following link: https://www.regonline.com/cdac_april_2015_meeting.

Seating is available to the public on a first-come, first-served basis.

Dated: March 30, 2015.
Austin Durrer,
Chief of Staff for Under Secretary for Economic Affairs, Economics and Statistics Administration.

[FR Doc. 2015-07773 Filed 4-2-15; 8:45 am]

BILLING CODE P